DEPARTMENT OF COMMERCE

Foreign-Trade Zones Board

[S-165-2018]

Approval of Subzone Status, Mayfield Consumer Products, Mayfield and Hickory, Kentucky

On October 11, 2018, the Executive Secretary of the Foreign-Trade Zones (FTZ) Board docketed an application submitted by the Paducah McCracken County Riverport Authority, grantee of FTZ 294, requesting subzone status subject to the existing activation limit of FTZ 294, on behalf of Mayfield Consumer Products, in Mayfield and Hickory, Kentucky.

The application was processed in accordance with the FTZ Act and Regulations, including notice in the Federal Register inviting public comment (83 FR 52382-52383, October 17, 2018). The FTZ staff examiner reviewed the application and determined that it meets the criteria for approval. Pursuant to the authority delegated to the FTZ Board Executive Secretary (15 CFR Sec. 400.36(f)), the application to establish Subzone 294A was approved on November 30, 2018, subject to the FTZ Act and the Board's regulations, including Section 400.13, and further subject to FTZ 294's 2,000-acre activation limit.

Dated: November 30, 2018.
Andrew McGilvray,
Executive Secretary.

[FR Doc. 2018-26548 Filed 12-6-18; 8:45 am]

BILLING CODE 3510-DS-P